DEPARTMENT OF TRANSPORTATION

Federal Railroad Administration

Environmental Impact Statement for the Baltimore-Washington Superconducting Maglev (SCMAGLEV) Project, Between Baltimore, Maryland and Washington, DC

AGENCY: Federal Railroad Administration (FRA), U.S. Department of Transportation (DOT).

ACTION: Notice of intent to prepare an Environmental Impact Statement (EIS).

SUMMARY: FRA announces its intent to prepare an EIS for the Baltimore-Washington Superconducting Magnetic Levitation (Maglev) (SCMAGLEV) Project (Proposed Action) jointly with the Maryland Department of Transportation (MDOT). The Proposed Action consists of the construction and operation of a high-speed SCMAGLEV train system between Washington, DC and Baltimore, MD with an intermediate stop at Baltimore/Washington International Thurgood Marshall (BWI) Airport. FRA and MDOT will develop the EIS in compliance with the National Environmental Policy Act of 1969 (NEPA), 42 U.S.C. 4321 et seq.

DATES: Written comments on the scope of the Project EIS should be provided to the address below by December 27, 2016. Public scoping meetings are anticipated for December 2016 and January 2017. Additional updated information and scoping materials is available through the Project Web site: http://www.BaltimoreWashingtonSCMaglevProject.com.

ADDRESSES: The public and other interested parties are encouraged to submit written scoping comments by mail, by email, or in person at the scoping meetings. Scoping comments can be sent by mail to Bradley M. Smith, Director of the Office of Freight and Multimodalism, Maryland Department of Transportation, 7201 Corporate Center Drive, Hanover, Maryland 21076, 410-865-1097; or via email to: bsmith9@mdot.state.md.us.

Comments may also be provided orally or in writing at scoping meetings. See the SUPPLEMENTARY INFORMATION section for meeting times and addresses.

FOR FURTHER INFORMATION CONTACT: Brandon Bratcher, Environmental Protection Specialist, USDOT Federal Railroad Administration, Office of Program Delivery, 1200 New Jersey Avenue SE., MS-20, Washington, DC 20590; 202-493-0844; brandon.bratcher@dot.gov.

SUPPLEMENTARY INFORMATION: FRA is an operating administration of DOT and is responsible for overseeing the safety of railroad operations, including the safety of any proposed rail ground transportation system. FRA is also authorized to provide, subject to appropriations, funding for intercity passenger rail and rail capital investments. In 2016, FRA awarded MDOT a grant to prepare an EIS for the Proposed Action. No funding, however, has been appropriated at this time to fund construction of the Proposed Action.

FRA is the lead Federal agency under NEPA; MDOT is the joint lead agency (40 CFR 1501.5(b) and 1506.2(a)). FRA and MDOT will prepare the EIS in compliance with: NEPA; the Council on Environmental Quality (CEQ) regulations implementing NEPA (40 CFR parts 1500-1508); FRA Procedures for Considering Environmental Impacts (FRA's Environmental Procedures) (64 FR 28545, May 26, 1999; 78 FR 2713, Jan. 14, 2013); 23 U.S.C. 139; and 49 U.S.C. 24201. After release and circulation of a Draft EIS for public comment, FRA intends to issue a single document that consists of the Final EIS and Record of Decision under the Moving Ahead for Progress in the 21st Century Act (MAP-21) (Pub. L. 112-141, Section 1319(b)) unless it determines the statutory criteria or practicability considerations preclude issuing a combined document.

The EIS will document compliance with applicable Federal, state, and local environmental laws and regulations, including: Section 106 of the National Historic Preservation Act; the Clean Air Act; the Clean Water Act; Section 4(f) of the U.S. Department of Transportation Act of 1966 (Section 4(f)); the Endangered Species Act; Executive Order 11988 and DOT Order 5650.2 on Floodplain Management; Executive Order 11990 on Protection of Wetlands; the Magnuson-Stevens Act; the Coastal Zone Management Act; and Executive Order 12898 on Environmental Justice. The EIS is intended to be a project-level EIS and will serve as the NEPA compliance for potential future funding or other federal, state, and local approvals of the Proposed Action as appropriate.

Project Background

Sections 1101(a)(18) and 1307 of the Safe, Accountable, Flexible, Efficient Transportation Equity Act: A Legacy for Users (SAFETEA-LU) (Pub. L. 109-59), as amended by section 102 of the SAFETEA-LU Technical Corrections Act of 2008 (Pub. L. 110-244), authorized funding for pre-construction planning activities for eligible Maglev transportation projects located east of the Mississippi River and between Las Vegas and Primm, Nevada. In 2016 FRA awarded $27.8 million in SAFETEA-LU Maglev funds to MDOT to prepare preliminary engineering and a NEPA analysis for the Proposed Action.

Previously, in 2003, FRA and the Maryland Transit Administration (MTA) prepared a Draft EIS and Section 4(f) Evaluation (2003 Draft EIS) for a similar proposed project authorized under the Magnetic Levitation Transportation Technology Deployment Program (23 U.S.C. 322). The 2003 Draft EIS studied the potential impacts of construction of a Maglev alignment between Washington, DC and Baltimore, MD, as well as potential station locations: One in downtown Washington, DC; one at BWI; and one in downtown Baltimore, MD. FRA and MTA published a Final EIS in 2007 (2007 Final EIS), but FRA did not issue a Record of Decision and the project was not advanced further.

In November 2015, the Maryland Public Service Commission approved the Baltimore-Washington Rapid Rail's (BWRR) application to acquire a passenger railroad franchise to deploy a SCMAGLEV system between Baltimore, MD and Washington, DC. BWRR is a private corporation and, as the Project sponsor and developer of the proposed SCMAGLEV service between Baltimore, MD and Washington, DC, will work with Federal and state agencies, including FRA and MDOT, to carry out the project.

Project Description

FRA and MDOT will complete the environmental and engineering studies for a proposed Baltimore-Washington SCMAGLEV train system between Washington, DC and Baltimore, MD, with an intermediate stop at BWI Airport. FRA and MDOT anticipate the study area will be approximately 40 miles long and 10 miles wide. The proposed study area is roughly bounded on the west by Interstate 95 and on the east by the former Washington-Baltimore & Annapolis Electric Railroad alignment. It includes portions of the City of Baltimore, Baltimore County, Howard County, Anne Arundel County, and Prince George's County in Maryland, and Washington, DC. BWRR has indicated it wishes to develop a SCMAGLEV system, potentially extending as far north as Boston, MA and south to Charlotte, NC. Such a project or projects will not be addressed in the EIS FRA and MDOT are preparing, but could be subject to separate NEPA review in the future, as appropriate.

BWRR's proposed SCMAGLEV system would be designed to provide approximately 15-minute service between the new Baltimore and Washington stations, and would run on a new, high-quality guideway with bi-directional service, an automatic train control system, and no at-grade crossings. BWRR anticipates the project would be funded by a mix of federal, international, and private funding, and would include construction of the new SCMAGLEV guideway, stations, and maintenance facilities.

Purpose and Need Statement

The purpose of BWRR's Proposed Action is to increase capacity, reduce travel time, and improve both reliability and mobility options between Baltimore and Washington. The population in the Baltimore-Washington area makes up one of the largest and densest population centers in the United States. Over the next 30 years the population in the area is projected to increase by approximately 30 percent. Similarly, the demand on the transportation infrastructure between Baltimore and Washington will continue to increase along major roadways and railways including Interstate 95, the Baltimore-Washington Parkway (MD 295), US 29, US 1, and the Northeast Corridor (NEC) thereby decreasing the level of service, reliability, mobility, and potentially decreasing safety.

The Baltimore-Washington area is served by the NEC rail network that runs parallel to Interstate 95 in the area and spans from Washington, DC to Boston, MA. Amtrak, commuter railroads, and freight railroads operate a variety of services on the NEC. In the Baltimore-Washington area, Amtrak runs intercity passenger rail service, Maryland Area Regional Commuter operates commuter rail service, and CSX Transportation and Norfolk Southern Railway run freight trains during off-peak times over portions of the NEC between Baltimore and Washington. Each of these services competes for operational times for service on the existing NEC and demand continues to increase.

Without additional transportation improvements and capacity within the Baltimore-Washington area, economic development and growth opportunities will be restricted. As congestion increases on the NEC and on the region's highways, the demand for continued economic development will be impacted, including, for example, tourism.

To address these issues, in 2012 FRA launched the NEC FUTURE program to consider the role of rail passenger service in the context of current and future transportation demands and to evaluate the appropriate level of capacity improvements to make across the NEC. Through NEC FUTURE, FRA will determine a long-term vision and investment program for the NEC documented in a Tier 1 EIS and Service Development Plan. FRA published a Tier 1 Draft EIS in November 2015; however, the Draft EIS evaluated steel-wheel technologies as a way to serve the passenger rail needs of the region. It left open the possibility and did not preclude the study of and investment in advanced guideway and other new technologies, such as SCMAGLEV, to meet the transportation needs of the Northeast, including the Baltimore-Washington area. Additional information on the NEC FUTURE Program is available at: http://www.necfuture.com/.

Proposed Alternatives To Consider

The EIS evaluating the SCMAGLEV proposal will consider a range of reasonable alternatives that FRA and MDOT will develop based on the purpose and need for the Proposed Action, information obtained through the scoping process, and previous studies, including the 2003 Draft EIS and 2007 Final EIS. The 2003 Draft EIS identified three concepts that FRA and MDOT have included in the initial range of alternatives to be considered in the EIS. FRA and MDOT will evaluate and screen those earlier concepts as well as additional options for elimination or further refinement during the NEPA process. Alternatives will include a no-build alternative and a reasonable range of build alternatives. Each build alternative will include alignments that serve Washington, DC, Baltimore, MD, and BWI Airport. A final alignment has not been determined.

Possible Effects

The EIS will analyze the potential direct, indirect, and cumulative effects of the alternatives on the social, economic, and environmental resources in the study area. This analysis will include identification of study areas appropriate for each resource, documentation of the affected environment, and identification of measures to avoid and/or mitigate significant adverse impacts.

FRA and MDOT will evaluate the impacts of the Proposed Action using data and field analyses. The analysis of resources will be consistent with NEPA, CEQ regulations and FRA's Environmental Procedures.

Scoping, Public Involvement, and Agency Coordination

This Notice initiates the scoping process under NEPA. FRA and MDOT invite comments from the public and encourage broad public participation throughout the NEPA process. In particular, FRA and MDOT invite comments from the public, Federal, state, and local agencies, and all interested parties on the scope of the EIS including: The purpose and need for the Project; alternatives to study; the selection of alternatives; environmental effects to consider and evaluate; methodologies to use for evaluating effects; the approach for public and agency involvement; and mitigation measures associated with the potential future construction, operation, and maintenance of the Proposed Action. This will ensure all relevant issues, constraints, and reasonable alternatives are addressed early in the development of the EIS. FRA and MDOT will contact directly the appropriate Federal, state, and local agencies as well as private organizations with a known interest in the Proposed Action. FRA and MDOT will request federal agencies with jurisdiction by law or special expertise with respect to potential environmental issues to act as a cooperating agency in accordance with 40 CFR 1501.16.

At various milestones during the development of the EIS, FRA and MDOT will provide additional opportunities for public involvement, such as public meetings and hearings, open houses, and requests for comment on the Draft EIS.

Currently, scoping meetings for this Project are scheduled for the dates and locations below:

December 10, 2016: 10 a.m.-12 p.m., Lindale Middle School, 415 Andover Rd., Linthicum Heights, MD

December 12, 2016: 5 p.m.-7 p.m., Arundel Middle School, 1179 Hammond Ln., Odenton, MD

December 13, 2016: 5 p.m.-7 p.m., Du Burns Coppermine Fieldhouse, 3100 Boston St., Baltimore, MD

December 14, 2016: 5 p.m.-7 p.m., Martin Luther King Jr. Memorial Library, 901 G St. NW., Washington, DC

Additional information, including updated meeting schedule, is located on the Project Web site (http://www.BaltimoreWashingtonSCMaglevProject.com).

Jamie Rennert,
Director, Office of Program Delivery.

[FR Doc. 2016-28285 Filed 11-23-16; 8:45 am]

BILLING CODE 4910-06-P